DEPARTMENT OF ENERGY

Federal Energy Regulatory Commission

Combined Notice of Filings #1

Take notice that the Commission received the following exempt wholesale generator filings:

Docket Numbers: EG19-159-000.

Applicants: Prevailing Wind Park, LLC.

Description: Notice of Self-Certification of Exempt Wholesale Generator Status of Prevailing Wind Park, LLC.

Filed Date: 8/2/19.

Accession Number: 20190802-5100.

Comments Due: 5 p.m. ET 8/23/19.

Take notice that the Commission received the following electric rate filings:

Docket Numbers: ER19-2520-000.

Applicants: New England Power Pool Participants Committee.

Description: § 205(d) Rate Filing: 133rd Agreement to be effective 10/1/2019.

Filed Date: 8/1/19.

Accession Number: 20190801-5144.

Comments Due: 5 p.m. ET 8/22/19.

Docket Numbers: ER19-2521-000.

Applicants: PJM Interconnection, L.L.C.

Description: § 205(d) Rate Filing: Original ISA, SA No. 5450; Queue No. AD2-108 to be effective 7/10/2019.

Filed Date: 8/1/19.

Accession Number: 20190801-5151.

Comments Due: 5 p.m. ET 8/22/19.

Docket Numbers: ER19-2522-000.

Applicants: Southwest Power Pool, Inc.

Description: Compliance filing: Exit Fee Compliance Revisions In Response to Order on Complaint in EL19-11 to be effective 1/1/2020.

Filed Date: 8/1/19.

Accession Number: 20190801-5155.

Comments Due: 5 p.m. ET 8/22/19.

Docket Numbers: ER19-2523-000.

Applicants: Southwest Power Pool, Inc.

Description: § 205(d) Rate Filing: Bylaws and Membership Agreement Revisions to Amend Exit Fee to be effective 1/1/2020.

Filed Date: 8/1/19.

Accession Number: 20190801-5157.

Comments Due: 5 p.m. ET 8/22/19.

Docket Numbers: ER19-2524-000.

Applicants: Southwest Power Pool, Inc.

Description: § 205(d) Rate Filing: Membership Agreement Revisions to Add Load Serving Entity Definition to be effective 10/1/2019.

Filed Date: 8/2/19.

Accession Number: 20190802-5000.

Comments Due: 5 p.m. ET 8/23/19.

Docket Numbers: ER19-2525-000.

Applicants: Southwest Power Pool, Inc.

Description: § 205(d) Rate Filing: 3186 KCP&L and KEPCO Interconnection Agreement Cancellation to be effective 7/11/2019.

Filed Date: 8/2/19.

Accession Number: 20190802-5002.

Comments Due: 5 p.m. ET 8/23/19.

Docket Numbers: ER19-2527-000.

Applicants: Prevailing Wind Park, LLC.

Description: Baseline eTariff Filing: Application for Market-Based Rate Authorization and Request for Waivers, et al. to be effective 10/1/2019.

Filed Date: 8/2/19.

Accession Number: 20190802-5078.

Comments Due: 5 p.m. ET 8/23/19.

Docket Numbers: ER19-2528-000.

Applicants: ISO New England Inc., New England Power Pool Participants Committee.

Description: § 205(d) Rate Filing: ISO-NE and NEPOOL; Revisions to Reactive Capability Audit Provisions to be effective 10/1/2019.

Filed Date: 8/2/19.

Accession Number: 20190802-5128.

Comments Due: 5 p.m. ET 8/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2019.
Kimberly D. Bose,
Secretary.

[FR Doc. 2019-16952 Filed 8-7-19; 8:45 am]

BILLING CODE 6717-01-P